DEPARTMENT OF ENERGY

Federal Energy Regulatory Commission

Combined Notice of Filings #1

March 5, 2009.

Take notice that the Commission received the following exempt wholesale generator filings:

Docket Numbers: EG09-33-000.

Applicants: Windy Flats Partners, LLC.

Description: Notice of Self Certification of Exempt Wholesale Generator Status of Windy Flats Partners, LLC.

Filed Date: 03/02/2009.

Accession Number: 20090302-5075.

Comment Date: 5 p.m. Eastern Time on Monday, March 23, 2009.

Take notice that the Commission received the following electric rate filings:

Docket Numbers: ER00-3039-002.

Applicants: Exeter Energy Limited Partnership.

Description: Request for Category 1 Seller Status Classification Pursuant to Order 697 and 697-A; Exeter Energy Limited Partnership.

Filed Date: 03/04/2009.

Accession Number: 20090304-5141.

Comment Date: 5 p.m. Eastern Time on Wednesday, March 25, 2009.

Docket Numbers: ER03-114-005; ER04-183-004.

Applicants: Great Bay Power Marketing, Inc.; Great Bay Hydro Corporation.

Description: Updated version of Great Bay Power Marketing's Application for qualification as Category I Seller.

Filed Date: 02/24/2009.

Accession Number: 20090224-5100.

Comment Date: 5 p.m. Eastern Time on Tuesday, March 17, 2009.

Docket Numbers: ER06-864-012; ER00-2885-019; ER01-2765-018; ER02-1582-016; ER02-2102-018; ER03-1283-013; ER05-1232-011; ER06-1543-009; ER07-1112-003; ER07-1113-003; ER07-1115-003; ER07-1116-003; ER07-1117-003; ER07-1118-003; ER07-1119-003; ER07-1120-003; ER07-1122-003; ER07-1356-004; ER07-1358-004; ER08-148-003.

Applicants: Bear Energy LP; Cedar Brakes I, L.L.C.; Cedar Brakes II, LLC; Mohawk River Funding IV, L.L.C.; Utility Contract Funding, L.L.C.; Vineland Energy LLC; J.P. Morgan Ventures Energy Corporation; Brush Cogeneration Partners; BE Allegheny LLC; BE CA LLC; BE Colquitt LLC; BE Ironwood LLC; BE KJ LLC; BE Rayle LLC; BE Red Oak LLC; BE Satilla LLC; BE Walton LLC; BE Alabama LLC; BE Louisiana LLC; Central Power & Lime Inc.

Description: JP Morgan Chase Companies submits response to a recent request from Commission Staff re the updated market power analysis that was submitted on 6/30/08.

Filed Date: 03/03/2009.

Accession Number: 20090305-0166.

Comment Date: 5 p.m. Eastern Time on Friday, March 13, 2009.

Docket Numbers: ER08-1410-002.

Applicants: PacifiCorp.

Description: PacifiCorp submits Second Revised Rate Schedule FERC 262 filed on 12/15/08 in compliance with Order 614.

Filed Date: 03/02/2009.

Accession Number: 20090303-0234.

Comment Date: 5 p.m. Eastern Time on Monday, March 23, 2009.

Docket Numbers: ER09-409-001.

Applicants: WestConnect.

Description: WestConnect submits a compliance filing in response to Order on Point-to-Point Regional Transmission Service Experiment.

Filed Date: 02/25/2009.

Accession Number: 20090302-0032.

Comment Date: 5 p.m. Eastern Time on Wednesday, March 18, 2009.

Docket Numbers: ER09-430-001.

Applicants: Willow Creek Energy LLC.

Description: Willow Creek Energy LLC submits notice of non material changes in facts from those relied upon to grant market based rate authority to Willow Creek.

Filed Date: 02/27/2009.

Accession Number: 20090304-0148.

Comment Date: 5 p.m. Eastern Time on Friday, March 20, 2009.

Docket Numbers: ER09-633-001.

Applicants: SWG Colorado, LLC.

Description: SWG Colorado, LLC submits a Substitute First Revised Sheet 1 and Sub. First Revised Sheet 2 and withdraws Original Sheet 3 under ER09-633.

Filed Date: 03/03/2009.

Accession Number: 20090305-0002.

Comment Date: 5 p.m. Eastern Time on Tuesday, March 24, 2009.

Docket Numbers: ER09-711-001.

Applicants: Freeport-McMoRan Copper & Gold Energy Se.

Description: Phelps Dodge Energy Services, LLC submits amendment to the notice of succession.

Filed Date: 02/27/2009.

Accession Number: 20090304-0147.

Comment Date: 5 p.m. Eastern Time on Friday, March 20, 2009.

Docket Numbers: ER09-733-000.

Applicants: Grindstone Capital Management, LLC.

Description: Grindstone Capital Management, LLC submits Petition for Acceptance of Initial Tariff, Waivers and Blanket Authority.

Filed Date: 02/24/2009.

Accession Number: 20090225-0214.

Comment Date: 5 p.m. Eastern Time on Tuesday, March 17, 2009.

Docket Numbers: ER09-750-000.

Applicants: Windy Flats Partners, LLC.

Description: Windy Flats Partners, LLC submits application for order accepting market based rate tariff and granting waivers and blanket authority.

Filed Date: 02/27/2009.

Accession Number: 20090303-0208.

Comment Date: 5 p.m. Eastern Time on Friday, March 20, 2009.

Docket Numbers: ER09-762-000.

Applicants: Power Resources, Ltd.

Description: Power Resources, Ltd petitions for authority to sell power at market based rates, acceptance of initial rate schedule, waivers, and blanket authority.

Filed Date: 02/27/2009.

Accession Number: 20090303-0154.

Comment Date: 5 p.m. Eastern Time on Friday, March 20, 2009.

Docket Numbers: ER09-769-000.

Applicants: Midwest Independent Transmission System Operator, Inc.

Description: Midwest Independent Transmission System Operator, Inc submit revisions to provisions of their Open Access Transmission Energy and Operating Reserve Markets Tariff re Stored Energy Resources etc.

Filed Date: 02/25/2009.

Accession Number: 20090302-0041.

Comment Date: 5 p.m. Eastern Time on Wednesday, March 18, 2009.

Docket Numbers: ER09-770-000.

Applicants: Xcel Energy Operating Companies.

Description: Southwestern Public Service Co submits a form of Service Agreement as a new Attachment S to the Xcel Energy Operating Companies Joint Open Access Transmission Tariff.

Filed Date: 02/25/2009.

Accession Number: 20090302-0019.

Comment Date: 5 p.m. Eastern Time on Wednesday, March 18, 2009.

Docket Numbers: ER09-778-000.

Applicants: Southwest Power Pool, Inc.

Description: Southwest Power Pool, Inc submits revisions to its Open Access Transmission Tariff to amend several provisions of its executed External Market Advisor Services Agreement with Boston Pacific Co, Inc, effective 1/1/09.

Filed Date: 02/27/2009.

Accession Number: 20090302-0037.

Comment Date: 5 p.m. Eastern Time on Friday, March 20, 2009.

Docket Numbers: ER09-779-000.

Applicants: Nordic Energy Services, LLC.

Description: Nordic Energy Services, LLC submits the Petition for Acceptance for Initial Tariff Waivers and Blanket authority.

Filed Date: 03/04/2009.

Accession Number: 20090305-0001.

Comment Date: 5 p.m. Eastern Time on Wednesday, March 25, 2009.

Docket Numbers: ER09-780-000.

Applicants: Westar Energy, Inc.

Description: Westar Energy, Inc submits Third Revised Sheet No 9 of a Control Area Services Agreement between Westar, etc.

Filed Date: 02/27/2009.

Accession Number: 20090303-0203.

Comment Date: 5 p.m. Eastern Time on Friday, March 20, 2009.

Docket Numbers: ER09-781-000.

Applicants: Otter Tail Power Company.

Description: Otter Tail Power Company submits revisions to its Control Area Services and Operation Tariff Area.

Filed Date: 02/27/2009.

Accession Number: 20090303-0204.

Comment Date: 5 p.m. Eastern Time on Friday, March 20, 2009.

Docket Numbers: ER09-782-000.

Applicants: Entergy Services, Inc.

Description: Entergy Services, Inc submits an executed Rate Schedule providing for cost based power sales for partial requirements service to the city of Jasper, Texas.

Filed Date: 02/27/2009.

Accession Number: 20090303-0205.

Comment Date: 5 p.m. Eastern Time on Friday, March 20, 2009.

Docket Numbers: ER09-783-000.

Applicants: Southern Indiana Gas & Electric Company.

Description: Southern Indiana Gas & Electric Company submits revised tariff sheets for Vectren's Attachment O and tariff sheets for Vectren's proposed Attachment GG in the Midwest ISO's Open Access Transmission and Energy Market Tariff.

Filed Date: 02/27/2009.

Accession Number: 20090303-0206.

Comment Date: 5 p.m. Eastern Time on Friday, March 20, 2009.

Docket Numbers: ER09-784-000.

Applicants: Wisconsin Public Service Corporation.

Description: Wisconsin Public Service Corporation submits revised Sheets 21, 23, and 24 to Attachment A to WPSC's Rate Schedule 74.

Filed Date: 02/27/2009.

Accession Number: 20090303-0207.

Comment Date: 5 p.m. Eastern Time on Friday, March 20, 2009.

Docket Numbers: ER09-785-000.

Applicants: Midwest ISO Transmission Owners.

Description: Midwest Independent Transmission System Operator, Inc and certain Midwest ISO Transmission Owners submit revisions to Attachment GG of the Midwest ISO Tariff.

Filed Date: 02/27/2009.

Accession Number: 20090303-0155.

Comment Date: 5 p.m. Eastern Time on Friday, March 20, 2009.

Docket Numbers: ER09-786-000.

Applicants: Consolidated Edison Company of New York.

Description: Consolidated Edison Company of New York, Inc submits their Accommodation Services Tariff, FERC Electric Tariff, Original Volume No 4, effective 5/4/09.

Filed Date: 03/03/2009.

Accession Number: 20090304-0118.

Comment Date: 5 p.m. Eastern Time on Tuesday, March 24, 2009.

Docket Numbers: ER09-787-000.

Applicants: EON US LLC.

Description: EON US, LLC submits amended unexecuted Network Integration Transmission Service Agreement et al.

Filed Date: 03/03/2009.

Accession Number: 20090304-0119.

Comment Date: 5 p.m. Eastern Time on Tuesday, March 24, 2009.

Docket Numbers: ER09-788-000.

Applicants: Midwest Independent System Transmission.

Description: Midwest Independent Transmission System Operator, Inc. submits revisions to Section 7.14 of its Open Access Transmission, Energy and Operating Reserve Markets Tariff.

Filed Date: 03/02/2009.

Accession Number: 20090304-0120.

Comment Date: 5 p.m. Eastern Time on Monday, March 23, 2009.

Docket Numbers: ER09-789-000.

Applicants: PJM Interconnection L.L.C.

Description: PJM Interconnection, LLC submits revisions to Section 3.2.2 of Schedule 1 of the Amended and Restated Operating Agreement, etc.

Filed Date: 03/02/2009.

Accession Number: 20090304-0121.

Comment Date: 5 p.m. Eastern Time on Monday, March 23, 2009.

Docket Numbers: ER09-790-000.

Applicants: Southwest Power Pool, Inc.

Description: Southwest Power Pool, Inc. submits executed Service Agreement for Network Integration Transmission Service between SPP as Transmission Provider and Empire District Electric Company as Network Customer, etc.

Filed Date: 03/03/2009.

Accession Number: 20090304-0122.

Comment Date: 5 p.m. Eastern Time on Tuesday, March 24, 2009.

Docket Numbers: ER09-791-000.

Applicants: Southwest Power Pool, Inc.

Description: Southwest Power Pool, Inc. submits revised pages to its Open Access Transmission Tariff.

Filed Date: 03/03/2009.

Accession Number: 20090304-0123.

Comment Date: 5 p.m. Eastern Time on Tuesday, March 24, 2009.

Docket Numbers: ER09-792-000.

Applicants: American Electric Power Service Corporation.

Description: AEP Texas Central Co. submits new and revised sheets of the transmission interconnection agreement with Electric Transmission Texas, LLC.

Filed Date: 03/02/2009.

Accession Number: 20090304-0124.

Comment Date: 5 p.m. Eastern Time on Monday, March 23, 2009.

Docket Numbers: ER09-793-000.

Applicants: American Electric Power Service Corporation.

Description: AEP Texas Central Company submits an executed generation interconnection agreement dated 2/13/09 with Langford Wind Power, LLC.

Filed Date: 03/03/2009.

Accession Number: 20090304-0125.

Comment Date: 5 p.m. Eastern Time on Tuesday, March 24, 2009.

Docket Numbers: ER09-794-000.

Applicants: Ameren Services Company.

Description: Illinois Power Company submits Notice of Cancellation for First Revised Interconnection and Operating Agreement between Illinois Power Company and Corn Belt Generation Cooperative Agreement.

Filed Date: 03/02/2009.

Accession Number: 20090304-0126.

Comment Date: 5 p.m. Eastern Time on Monday, March 23, 2009.

Docket Numbers: ER09-795-000.

Applicants: American Electric Power Service Corporation.

Description: AEP Operating Companies requests acceptance of an Interconnection and Local Delivery Service Agreement with the City of Danville.

Filed Date: 03/02/2009.

Accession Number: 20090304-0127.

Comment Date: 5 p.m. Eastern Time on Monday, March 23, 2009.

Docket Numbers: ER09-796-000.

Applicants: Consolidated Edison Company of New York.

Description: Consolidated Edison Company of New York, Inc submits First Revised Sheet 13B to FERC Electric Tariff, First Revised Rate Schedule 96 with the New York Public Service Commission.

Filed Date: 03/02/2009.

Accession Number: 20090304-0128.

Comment Date: 5 p.m. Eastern Time on Monday, March 23, 2009.

Docket Numbers: ER09-797-000.

Applicants: PJM Interconnection, LLC.

Description: PJM Interconnection, LLC submits revisions to their Emergency Load Response Program found in Schedule 1 of the Amended and Restated Operating Agreement etc.

Filed Date: 03/04/2009.

Accession Number: 20090305-0080.

Comment Date: 5 p.m. Eastern Time on Wednesday, March 25, 2009.

Take notice that the Commission received the following open access transmission tariff filings:

Docket Numbers: OA07-35-003.

Applicants: Cleco Power LLC.

Description: Cleco Power LLC submits its Operational Penalties Annual Compliance Report.

Filed Date: 03/02/2009.

Accession Number: 20090304-0158.

Comment Date: 5 p.m. Eastern Time on Monday, March 23, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-5465 Filed 3-12-09; 8:45 am]

BILLING CODE 6717-01-P